DEPARTMENT OF ENERGY

Federal Energy Regulatory Commission

[Docket No. AD21-14-000]

Resource Adequacy Developments in the Western Interconnection; Notice Inviting Post-Technical Conference Comments

On June 23, 2021 and June 24, 2021, the Federal Energy Regulatory Commission (Commission) convened a technical conference to discuss issues and developments in resource adequacy frameworks and coordination in the western interconnection.

All interested persons are invited to file post-technical conference comments addressing issues raised during the technical conference or in the Supplemental Notice of Technical Conference issued June 17, 2021. Commenters are also invited to reference material previously filed in this docket but are encouraged to avoid repetition or replication of their previous comments. Comments must be submitted on or before 60 days from the date of this Notice.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2020).

For more information about this Notice, please contact:

Navin Shekar (Technical Information), Office of Energy Market Regulation, (202) 502-6297, Navin.Shekar@ferc.gov.

Colin Beckman (Legal Information), Office of the General Counsel, (202) 502-8049, Colin.Beckman@ferc.gov.

Dated: November 30, 2021.
Kimberly D. Bose,
Secretary.

[FR Doc. 2021-26384 Filed 12-3-21; 8:45 am]

BILLING CODE 6717-01-P